DEPARTMENT OF THE INTERIOR

Bureau of Land Management

[NV-030-1010-DC-032F]

Environmental Statements; Notice of Intent; Walker River Basin, NV; Water and/or Water Rights From Willing Sellers

AGENCY: Bureau of Land Management, Carson City Field Office, 5665 Morgan Mill Road, Carson City, NV 89701.

ACTION: Second Amendment to the February 1, 2000 notice of intent to prepare an environmental impact statement for obtaining water and/or water rights from willing sellers in the Walker River Basin.

Second Amendment to the February 1, 2000 notice of intent to prepare an environmental impact statement for obtaining Water and/or water rights from willing sellers in the Walker River Basin for the purposes of protecting the Walker Lake ecosystem from degradation resulting from increasing total dissolved solids (TDS) in the lake; possible use in a settlement of the United States' water rights claims in the Walker River Basin should a settlement be negotiated; and to assist in recovery of the threatened Lahontan cutthroat trout in the Walker River Basin.

SUMMARY: The Bureau of Land Management (BLM), Carson City Field Office, in cooperation with the Bureau of Indian Affairs (BIA), Phoenix Area Office, The Bureau of Reclamation (BOR), Lahontan Basin Area Office and the U.S. Fish and Wildlife Service (FWS), Nevada Fish and Wildlife Office, will hold four public workshops for the purposes of refining issues identified in the on-going scoping process and developing reasonable alternative for consideration and analysis in the Walker River Basin Environmental Impact Statement (EIS).

These workshops are a follow-up to public scoping meetings held in February, 2000 regarding BLM's proposal to obtain water and/or water rights from willing sellers to protect the Walker Lake ecosystem from degradation resulting from increasing concentrations of total dissolved solids (TDS) in the lake, for possible use in a settlement of the United States' water rights claims in the Walker River Basin should a settlement be negotiated, and to assist in the recovery of the threatened Lahontan cutthroat trout.

EFFECTIVE DATES: A series of four public workshops will be held between July 5 and July 13, 2000. The workshops will be held from 5:30 p.m. until 9 p.m. at each of the following locations:

July 5, 2000 Yerington H.S. Multi-Purpose Room, 114 Pearl St., Yerington, Nevada

July 6, 2000 Mineral County Library, 110 1st St., Hawthorne, Nevada

July 12, 2000 Memorial Hall, School Street, Bridgeport, California

July 13, 2000 Carson City Field Office (BLM), 5665 Morgan Mill Rd, Carson City, Nevada

These workshops will be conducted by Desert Research Institute as the principal contractor for preparing the Walker River Basin EIS, and personnel from the Bureau of Land Management, Bureau of Reclamation, Bureau of Indian Affairs, and the Fish and Wildlife Service will participate.

FOR FURTHER INFORMATION CONTACT: For additional information, write to the Field Manager of the Carson City Field Office at the address listed in the agency section of this notice, call or email Walt Devaurs (BLM Team Leader) at (775) 885-6150, wdevaurs@nv.blm.gov; or Mike McQueen (BLM NEPA Coordinator) at (775) 885-6120, mmcqueen@nv.blm.gov.

SUPPLEMENTARY INFORMATION: The proposed EIS schedule is as follows:

Begin Initial Public Comment Period February 1, 2000

Hold Four Public Workshops July 5-13, 2000

End of Extended Public Scoping Period July 31, 2000

Issue Draft EIS (75-day public review) November 24, 2000

End Draft EIS Public Review February 7, 2000

Issue Final EIS (30-day public review) June 1, 2001

Issue Record of Decision August 5, 2001

End 30-Day Appeal Period/Implementation September 5, 2001

Dated: June 12, 2000.
John O. Singlaub,
Field Office Manager.

[FR Doc. 00-15255 Filed 6-15-00; 8:45 am]

BILLING CODE 4310-HC-M